DEPARTMENT OF TRANSPORTATION

Federal Aviation Administration

14 CFR Part 71

[Docket No. FAA-2022-0041; Airspace Docket No. 21-ANM-47]

RIN 2120-AA66

Establishment of Class E Airspace; Limon Municipal Airport, CO; Correction

AGENCY: Federal Aviation Administration (FAA), Department of Transportation (DOT).

ACTION: Final rule; correction.

SUMMARY: The FAA is correcting a final rule that published in the Federal Register on June 1, 2022. The rule established Class E airspace beginning at 700 feet above the surface. The final rule incorrectly listed the effective date of 0901 UTC, July 14, 2022. This action corrects the error.

DATES: Effective 0901 UTC, September 8, 2022. The Director of the Federal Register approves this incorporation by reference action under 1 CFR part 51, subject to the annual revision of FAA Order JO 7400.11 and publication of conforming amendments.

FOR FURTHER INFORMATION CONTACT: Nathan A. Chaffman, Federal Aviation Administration, Western Service Center, Operations Support Group, 2200 S 216th Street, Des Moines, WA 98198; telephone (206) 231-3460.

SUPPLEMENTARY INFORMATION:

History

The FAA published a final rule in the Federal Register (87 FR 32982; June 1, 2022) for Docket No. FAA-2022-0041, which established Class E airspace beginning at 700 feet above the surface at Limon Municipal Airport, CO. The effective date listed in the final rule was incorrect. The final rule stated the effective date of 0901 UTC, July 14, 2022. However, the final rule was submitted too late to be effective on July 14, 2022, and should have listed the effective date as 0901 UTC, September 8, 2022. This action corrects this error.

The Class E5 airspace designation in this document is published in paragraph 6005 of FAA Order JO 7400.11F, dated August 10, 2021, and effective September 15, 2021, which is incorporated by reference in 14 CFR 71.1. The Class E airspace designation listed in this document will be published subsequently in FAA Order JO 7400.11.

Correction to Final Rule

Accordingly, pursuant to the authority delegated to the FAA, Establishment of Class E airspace; Limon Municipal Airport, CO, published in the Federal Register of June 1, 2022 (87 FR 32982), FR Doc. 2022-11586, is corrected as follows:

1. On page 32982, in the third column, beginning on line 18, DATES is corrected to read:

DATES: Effective 0901 UTC, September 8, 2022. The Director of the Federal Register approves this incorporation by reference action under 1 CFR part 51, subject to the annual revision of FAA Order 7400.11, and publication of conforming amendments.

Issued in Des Moines, Washington, on June 3, 2022.
B.G. Chew,
Acting Group Manager, Operations Support Group, Western Service Center.

[FR Doc. 2022-12393 Filed 6-9-22; 8:45 am]

BILLING CODE 4910-13-P